DEPARTMENT OF DEFENSE

Office of the Secretary

[Docket ID: DoD-2014-OS-0056]

Proposed Collection; Comment Request

AGENCY: Office of the Undersecretary for Personnel and Readiness, DoD.

ACTION: Notice.

SUMMARY: In compliance with Section 3506(c)(2)(A) of the Paperwork Reduction Act of 1995, the Office of the Undersecretary for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 27, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Deputy Assistant Secretary of Defense for Military Personnel Policy, ATTN: Major Justin DeVantier, Accession Policy (3D1066), 4000 Defense Pentagon, Washington, DC 20301-4000, or call 703-695-5525.

SUPPLEMENTARY INFORMATION: Title; Associated Form; and OMB Number: Police Record Check, DD Form 369; OMB Control Number 0704-0007.

Needs and Uses: The information collection requirement is necessary, per Sections 504, 505 and 12102, Title 10 U.S. Code, to identify persons who may be undesirable for military service. Applicants for enlistment must be screened to identify any discreditable involvement with police or other law enforcement agencies. The DD Form 369, “Police Record Check” is forwarded to law enforcement agencies to identify if applicant has a record.

Affected Public: Individuals or households; State or local government agencies.

Annual Burden Hours: 97,450.

Number of Respondents: 233,881.

Responses per Respondent: 1.

Total Annual Responses: 233,881.

Average Burden per Response: 25 minutes.

Frequency: On occasion.

This information is collected to provide the Armed Services with background information on an applicant. History of criminal activity, arrests, or confinement is disqualifying for military service, the respondents will be local and state law enforcement agencies. The DD Form 369 is the method of information collection; responses are to reference any records on the applicant. The information will be used to determine suitability of the applicant for military service.

Dated: April 23, 2014.
Aaron Siegel,
Alternate OSD Federal Register Liaison Officer, Department of Defense.

[FR Doc. 2014-09555 Filed 4-25-14; 8:45 am]

BILLING CODE 5001-06-P